NUCLEAR REGULATORY COMMISSION

[Project No. 753; NRC-2012-0019]

Model Safety Evaluation for Plant-Specific Adoption of Technical Specifications Task Force Traveler TSTF-432, Revision 1, “Change in Technical Specifications End States (WCAP-16294)” Using the Consolidated Line Item Improvement Process

AGENCY: Nuclear Regulatory Commission.

ACTION: Notice of availability.

SUMMARY: The U.S. Nuclear Regulatory Commission (NRC) is announcing the availability of the model safety evaluation (SE) for plant-specific adoption of Technical Specifications (TSs) Task Force (TSTF) Traveler TSTF-432, Revision 1, “Change in Technical Specifications End States (WCAP-16294).”

The proposed change revises the Improved Standard Technical Specification (ISTS), NUREG-1431, “Standard Technical Specifications Westinghouse Plants,” to permit, for some systems, entry into a hot shutdown (Mode 4) end state rather than a cold shutdown (Mode 5) end state. The model SE will facilitate expedited approval of plant-specific adoption of TSTF-432, Revision 1. This TS improvement is part of the consolidated line item improvement process.

ADDRESSES: Please refer to Docket ID NRC-2012-0019 when contacting the NRC about the availability of information regarding this document. You may access information related to this document, which the NRC possesses and is publicly available, using the following methods:

• Federal Rulemaking Web site: Go to http://www.regulations.gov and search for Docket ID NRC-2012-0019. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. TSTF-432, Revision 1, is available in ADAMS under Accession No. ML103360003; the model application is available under ADAMS Accession No. ML113202614; and the model SE for plant-specific adoption of TSTF-432, Revision 1, is available under ADAMS Accession No. ML120200384. The NRC staff disposition of comments received to the Notice of Opportunity for Public Comment announced in the Federal Register on January 30, 2012 (77FR4586), is available under ADAMS Accession No. ML12072A159.

• NRC's PDR: You may examine and purchase copies of public documents at the NRC's PDR, Room O1-F21, One White Flint North, 11555 Rockville Pike, Rockville, Maryland 20852.

FOR FURTHER INFORMATION CONTACT: Ms. Michelle C. Honcharik, Senior Project Manager, Licensing Processes Branch, Mail Stop: O-12 D1, Division of Policy and Rulemaking, Office of Nuclear Reactor Regulation, U.S. Nuclear Regulatory Commission, Washington, DC 20555-0001; telephone 301-415-1774 or email at Michelle.Honcharik@nrc.gov or Ms. Kristy Bucholtz, Technical Specifications Branch, Mail Stop: O-7 C2A, Division of Safety Systems, Office of Nuclear Reactor Regulation, U.S. Nuclear Regulatory Commission, Washington, DC 20555-0001; telephone 301-415-1295 or email; Kristy.Bucholtz@nrc.gov.

SUPPLEMENTARY INFORMATION:

TSTF-432, Revision 1, is applicable to Westinghouse-designed pressurized water reactor (PWR) plants. The proposed changes revise the ISTS to permit, for some systems, entry into a hot shutdown (Mode 4) end state rather than a cold shutdown (Mode 5) end state. These changes are associated with the implementation of Topical Report WCAP-16294-NP-A, Revision 1, “Risk-Informed Evaluation of Changes to Technical Specification Required Action Endstates for Westinghouse NSSS [nuclear steam supply system] PWRs,” dated June 2010 (ADAMS Package Accession No. ML103430264). TS Bases changes that reflect the proposed changes are included.

The NRC staff has reviewed the model application for TSTF-432 and has found it acceptable for use by licensees. Licensees opting to apply for this TS change are responsible for reviewing the NRC staff SE and the applicable technical bases, providing any necessary plant-specific information, and assessing the completeness and accuracy of their license amendment request (LAR). The NRC will process each amendment application responding to the Notice of Availability according to applicable NRC rules and procedures.

The proposed changes do not prevent licensees from requesting an alternate approach or proposing changes other than those proposed in TSTF-432, Revision 1. However, significant deviations from the approach recommended in this notice or the inclusion of additional changes to the license will require additional NRC staff review. This may increase the time and resources needed for the review or result in NRC staff rejection of the LAR. Licensees desiring significant deviations or additional changes should instead submit an LAR that does not claim to adopt TSTF-432, Revision 1.

Dated at Rockville, Maryland, this 2nd day of May 2012.
For the Nuclear Regulatory Commission.
John R. Jolicoeur,
Chief, Licensing Processes Branch, Division of Policy and Rulemaking, Office of Nuclear Reactor Regulation.

[FR Doc. 2012-11425 Filed 5-10-12; 8:45 am]

BILLING CODE 7590-01-P